SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. National Teacher Questionnaire (SSA-5665-BK), and Information About the Working Age Child (SSA-5665-SUPP)-0960-New. The information collected on forms SSA-5665-BK and SSA-5665-Sup is used by the Social Security Administration (SSA) and the State Disability Determination Services (DDS) to obtain descriptions of children claiming SSI benefits based on disability and their ability to function on a daily basis. The forms will be used for initial determinations of eligibility, in appeals and in initial continuing disability reviews.

These forms are being developed because the forms currently used by the DDSs vary a great deal in format and content. It was decided that for the sake of a uniform national childhood program (and with this information in hand and the sensitivity of this population), there is a need for a National Teacher Questionnaire and Information About the Working Age Child. The respondents are the educational Community and small businesses that educate and/or employ applicants for Supplemental Security Income for the aged, blind, and Disabled.

| SSA-5665-BK | SSA-5665-Sup
Number of Respondents | 475,000 | 125,000.
Frequency of Response | 1 | 1.
Average Burden Per Response | 15-20 minutes | 5-10 minutes.
Estimated Annual Burden | 158,333 hours | 20,833 hours.

2. Beneficiary Recontact Report-0960-0536. SSA collects the information on Form SSA-1587 to ensure that eligibility for benefits continues after entitlement is established. SSA asks children ages 15-17 information about marital status to detect overpayments and avoid continuing payment to those no longer entitled. Studies show that representative payees of children who marry fail to report the marriage, which is a terminating event. The responents are payees who receive Title II (Old-Age, Survivors and Disability Insurance) benefits on behalf of children ages 15-17.

Number of Respondents: 982,357.

Frequency of Response: 1.

Average Burden Per Response: 3 minutes.

Estimated Annual Burden: 49,118 hours.

3. Questionnaire About Employment or Self-Employment Outside the United States—0960-0050. This information is used by SSA to determine whether work performed by beneficiaries outside the United States (U.S.) is cause for deductions from their monthly benefits; to determine which of two work tests (foreign or regular) is applicable; and to determine the months, if any, for which deductions should be imposed. The respondents are beneficiaries living and working outside the U.S.

Number of Respondents: 20,000.

Frequency of Response: 1.

Average Burden Per Response: 12 minutes.

Estimated Annual Burden: 4,000 hours.

II. The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. Claimant's Statement About Loan of Food or Shelter (SSA-5062), and Statement About Food or Shelter Provided to Another (SSA-L5063)—0960-0529. Forms SSA-5062 and SSA-L5063 are used to obtain statements about food and/or shelter provided to an SSI claimant. SSA uses the information to determine whether food and/or shelter are a bona fide loan or should be counted as income. This determination can affect eligibility for SSI and the amount of SSI benefits payable. The respondents are claimants for SSI benefits and individuals who provide (loan) food or shelter to SSI Claimants.

| SSA-5062 | SSA-L5063
Number of Respondents | 65,540 | 65,540.
Frequency of Response | 1 | 1.
Average Burden Per Response | 10 minutes | 10 minutes.
Estimated Annual Burden | 10,923 hours | 10,923 hours.

(SSA Address) Social Security Administration, DCFAM, Attn: Frederick W. Brickenkamp 1-A-21 Operations Bldg., 6401 Security Blvd., Baltimore, MD 21235.

(OMB Address) Office of Management and Budget, OIRA, Attn: Desk Officer for SSA, New Executive Office Building, Room 10230, 725 17th St., NW, Washington, D.C. 20503.

Dated: September 22, 2000.
Frederick W. Brickenkamp,
Social Security Administration, Reports Clearance Officer.

[FR Doc. 00-24903 Filed 9-27-00; 8:45 am]

BILLING CODE 4191-02-P